DEPARTMENT OF COMMERCE

National Oceanic and Atmospheric Administration

Fisheries of the South Atlantic; South Atlantic Fishery Management Council; Public Meeting

AGENCY: National Marine Fisheries Service (NMFS), National Oceanic and Atmospheric Administration, NOAA, Commerce.

ACTION: Notice of a public meeting.

SUMMARY: The SAFMC will hold a meeting of its Scientific and Statistical Committee (SSC) to review stock projections for blueline tilefish. See SUPPLEMENTARY INFORMATION.

DATES: The SSC meeting will be held via webinar on Wednesday, June 3, 2015, from 1 p.m. to 3 p.m.

ADDRESSES: The meeting will be held via webinar. The webinar is open to members of the public. Those interested in participating should contact John Carmichael at the SAFMC (see FOR FURTHER INFORMATION CONTACT) to request an invitation providing webinar access information. Please request webinar invitations at least 24 hours in advance of the webinar.

Council address: South Atlantic Fishery Management Council, 4055 Faber Place Drive, Suite 201, N. Charleston, SC 29405.

FOR FURTHER INFORMATION CONTACT: John Carmichael; 4055 Faber Place Drive, Suite 201, North Charleston, SC 29405; phone: (843) 571-4366 or toll free (866) SAFMC-10; fax: (843) 769-4520; email: john.carmichael@safmc.net.

SUPPLEMENTARY INFORMATION: This meeting is held to discuss yield and stock status projections for blueline tilefish. This SSC reviewed the SEDAR 32 blueline tilefish stock assessment in October 2013, and considered revised projections in April 2014. The Council has directed the SSC to review the most recent stock projections and consider if they still provide an adequate basis to support the fishery management program.

Items to be addressed during this meeting.

Blueline Tilefish Stock Projections

Special Accommodations

The meeting is physically accessible to people with disabilities. Requests for sign language interpretation or other auxiliary aids should be directed to the Council office (see ADDRESSES) at least 10 business days prior to the meeting.

Note: The times and sequence specified in this agenda are subject to change.

Authority: 16 U.S.C. 1801 et seq.

Dated: May 13, 2015.
Tracey L. Thompson,
Acting Deputy Director, Office of Sustainable Fisheries, National Marine Fisheries Service.

[FR Doc. 2015-11951 Filed 5-15-15; 8:45 am]

BILLING CODE 3510-22-P